DEPARTMENT OF THE INTERIOR

Fish and Wildlife Service

[FWS-R8-ES-2023-N072; FXES11130800000-234-FF08E00000]

Endangered and Threatened Wildlife and Plants; Initiation of 5-Year Status Reviews of 47 Species in California, Nevada, and Oregon; Correction

AGENCY: Fish and Wildlife Service, Interior.

ACTION: Notice of initiation of reviews; correction.

SUMMARY: We, the U.S. Fish and Wildlife Service, published a notice in the Federal Register of August 17, 2023, initiating 5-year status reviews of 47 species in California, Nevada, and Oregon under the Endangered Species Act. We inadvertently included one species in error. We are correcting the notice to remove that species.

DATES: Interested persons are invited to submit comments on or before October 16, 2023.

SUPPLEMENTARY INFORMATION: On August 17, 2023, we, the U.S. Fish and Wildlife Service, published a notice initiating 5-year status reviews of 47 species in California, Nevada, and Oregon under the Endangered Species Act. We inadvertently included one species, the southern sea otter (Enhydra lutris nereis), in error. We are correcting the notice to remove that species. For how to comment, see our August 17, 2023, notice (88 FR 56042).

Correction

In the Federal Register of August 17, 2023, in FR Doc. 2023-17728, please make the following correction:

On page 56043, remove the “Otter, southern sea” entry from the table.

Jill Russi,
Acting Regional Director, California Great Basin Region, U.S. Fish and Wildlife Service.

[FR Doc. 2023-18479 Filed 8-25-23; 8:45 am]

BILLING CODE 4333-15-P